DEPARTMENT OF DEFENSE

Department of the Navy

Notice of Meeting of the Ocean Research and Resources Advisory Panel; Correction

AGENCY: Department of the Navy, DoD.

ACTION: Notice; correction.

SUMMARY: The Department of the Navy published a document in the Federal Register on August 26, 2008 at 73 FR 50312 concerning a meeting of the Ocean Research and Resources Advisory Panel. The document contained incorrect information.

FOR FURTHER INFORMATION CONTACT: Dr. Charles L. Vincent, Office of Naval Research, 875 North Randolph Street, Suite 1425, Arlington, VA 22203-1995, telephone: 703-696-4118.

Correction

In the Federal Register of August 26, 2008, in FR Doc. E8-19725, on page 50312, make the following changes:

1. In the first column, on page 50312, correct the SUMMARY section to read as follows:

“SUMMARY: The Ocean Research and Resources Advisory Panel (ORRAP) will meet to finalize the recommendations laid out in the ORRAP administration transition document. The meeting will be open to the public.”

2. In the first column, on page 50312, correct the DATES section to read as follows:

“DATES: The meeting will be held on Monday, October 6, 2008 from 11:30 a.m. to 1:30 p.m. Members of the public should submit their comments one week in advance of the meeting to the meeting point of contact.”

3. In the first column, on page 50312, correct the ADDRESSES section to read as follows:

“ADDRESSES: The meeting will be held in the offices of the Consortium of Ocean Leadership, 1201 New York Avenue NW., 4th Floor, Washington, DC.”

Dated: August 29, 2008.
T. M. Cruz,
Lieutenant Commander, Judge Advocate General's Corps, U.S. Navy, Federal Register Liaison Officer.

[FR Doc. E8-20590 Filed 9-4-08; 8:45 am]

BILLING CODE 3810-FF-P